DEPARTMENT OF TRANSPORTATION

Federal Aviation Administration

14 CFR Part 71

[Docket No. FAA-2006-23866; Airspace Docket No. 06-ASO-3]

Establishment of Class D and E Airspace, Amendment of Class E Airspace; Leesburg, FL

AGENCY: Federal Aviation Administration (FAA), DOT.

ACTION: Final rule.

SUMMARY: This action establishes Class D and E4 airspace and amends Class E5 airspace at Leesburg, FL. A Federal contract tower with a weather reporting system is being constructed at the Leesburg Regional Airport. Therefore, the airport will meet the criteria for establishment of Class D and E4 airspace. Class D surface area airspace and Class E4 airspace desiganted as an extension to Class D airspace is required when the control tower is open to contain existing Standard Instrument Approach Procedures (SIAPs) and other Instrument Flight Rules (IFR) operations at the airport. This action will establish Class D airspace extending upward from the surface to but not including 1,600 feet MSL, within a 4.1-mile radius of the Leesburg Regional Airport and a Class E4 airspace extension that is 4.8 miles wide and extends 7 miles southeast of the airport. This action will also amend Class E5 airspace extending upward from 700 feet Above Ground Level (AGL) needed to contain SIAPs, by decreasing the size from a 7-mile radius of the airport to a 6.6-mile radius of the airport and providing for the procedure turn area. Additionally, a technical amendment will result in a name change from the Leesburg Municipal Airport to the Leesburg Regional Airport, which was effective August 25, 1997.

DATES: Effective Date: 0901 UTC, September 28, 2006.

FOR FURTHER INFORMATION CONTACT: Mark D. Ward, Manaer, System Support, Eastern Service Center, Federal Aviation Administration, P.O. Box 20636, Atlanta, Georgia 30320; telephone (404) 305-5586.

SUPPLEMENTARY INFORMATION:

History

On February 28, 2006, the FAA proposed to amend part 71 of the Federal Aviation Regulations (14 CFR part 71) by establishing Class D and E4 airspace and amending Class E5 airspace at Leesburg, FL, (71 FR 9982). This action provides adequate Class D and E airspace for IFR operations at Leesburg Regional Airport. Designations for Class D Airspace, Class E Airspace Areas Designated as an Extension to a Class D Surface Area, and Class E Airspace Areas Extending Upward from 700 feet or More Above the Surface of the Earth are published in paragraphs 5000, 6004 and 6005 respectively, of FAA Order 7400.9N, dated September 1, 2005, and effective September 16, 2005, which is incorporated by reference in 14 CFR 71.1. The Class D and E airspace designations listed in this document will be published subsequently in the Order.

Interested parties were invited to participate in this rulemaking proceeding by submitting written comments on the proposal to the FAA. No comments objecting to the proposal were received.

The Rule

This amendment to part 71 of the Federal Aviation Regulations (14 CFR part 71) establishes Class D airspace and Class E4 airspace and amends Class E5 airspace at Leesburg, FL.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority 49 U.S.C. 106(g); 40103, 40113, 40120; EO 10854, 24 FR 9565, 3 CFR, 1959-1963 comp., p. 389; 14 CFR 11.69.

71.1 [Amended]

2. The incorporation by reference in 14 CFR 71.1 of Federal Aviation Administration Order 7400.9N, Airspace Designations and Reporting Points, dated September 1, 2005, and effective September 16, 2005, is amended as follows:

Paragraph 5000 Class D Airspace.

* * * * *

ASO FL D Leesburg, FL [NEW]

Leesburg Regional Airport, FL

(Lat. 28°49′23″ N, long. 81°48′31″ W)

That airspace extending upward from the surface to but not including 1,600 feet MSL within a 4.1-mile radius of Leesburg Regional Airport. This Class D airspace area is effective during the specific days and times established in advance by a Notice to Airmen. The effective days and times will thereafter be continuously published in the Airport/Facility Directory.

* * * * *

Paragraph 6004 Class E4 Airspace Areas Designated as an Extension to a Class D Surface Area.

* * * * *

ASO FL E4 Leesburg, FL [NEW]

(Lat. 28°49′23″ N, long. 81°48′31″ W)

Leesburg NDB

(Lat. 28°49′06″ N, long. 81°48′26″ W)

That airspace extending upward from the surface within 2.4 miles each side of the Leesburg NDB 111° bearing, extending from the 4.1-mile radius to 7 miles southeast of the NDB. This class E4 airspace area is effective during the specific days and times established in advance by a Notice to Airmen. The effective days and times will thereafter be continuously published in the Airport/Facility Directory.

* * * * *

Paragraph 6005 Class E Airspace Areas Extending Upward From 700 Feet or More Above the Surface of the Earth.

* * * * *

ASO FL E5 Leesburg, FL [REVISED]

Leesburg Regional Airport, FL

(Lat. 28°49′23″ N, long. 81°48′31″ W)

Leesburg NDB

(Lat. 28°49′06″ N, long. 81°48′26″ W)

That airspace extending upward from 700 feet above the surface within a 6.6-mile radius of Leesburg Regional Airport, and within 4 miles southwest and 8 miles northeast of the 111° bearing from the Leesburg NDB extending from the 6.6-mile radius to 16 miles southeast of the airport.

* * * * *

Issued in College Park, Georgia, on July 13, 2006.
Mark D. Ward,
Acting Area Director, Air Traffic Division, Southern Region.

[FR Doc. 06-6593 Filed 7-31-06; 8:45 am]

BILLING CODE 4910-13-M